DEPARTMENT OF HEALTH AND HUMAN SERVICES

Office of the Secretary

[Document Identifier: HHS-OS-20475-30D]

Agency Information Collection Activities; Submission to OMB for Review and Approval; Public Comment Request

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB) for review and approval. The ICR is for a new collection. Comments submitted during the first public review of this ICR will be provided to OMB. OMB will accept further comments from the public on this ICR during the review and approval period.

DATES: Comments on the ICR must be received on or before January 22, 2014.

ADDRESSES: Submit your comments to OIRA_submission@omb.eop.gov or via facsimile to (202) 395-5806.

FOR FURTHER INFORMATION CONTACT: Information Collection Clearance staff, Information.CollectionClearance@hhs.gov or (202) 690-6162.

SUPPLEMENTARY INFORMATION: When submitting comments or requesting information, please include the Information Collection Request Title and document identifier HHS-OS-20475-30D for reference.

Information Collection Request Title: Survey of Medical Care Providers for the Evaluation of the Regional Extension Center (REC) Program.

Abstract: This new, one-time data collection activity is needed to collect information from practices that are utilizing assistance from the Regional Extension Center program to implement and meaningfully use health information technology, as well as practices that are not working with a Regional Extension Center. The survey data will be analyzed to determine whether there is an association between REC participation and the use of technical assistance, EHR adoption, and achievement of meaningful use of electronic health records by primary care practices. The data will also be used to identify challenges faced by primary care practices when adopting and meaningfully using EHRs. The resulting data will inform policy decisions by the Office of the National Coordinator for Health Information Technology (ONC), REC program administrators, and the broader community of policy makers and researchers interested in electronic health record (EHR) adoption.

Need and Proposed Use of the Information: The Office of the National Coordinator for Health Information Technology has funded an independent national program evaluation of the Regional Extension Center program. The proposed information collection effort is necessary to collect information to answer the following research questions: (1) Is REC participation associated with adoption of EHRs and meaningful use of EHRs? (2) Is REC participation associated with attestation in the Centers for Medicare and Medicaid Services (CMS) Medicare and Medicaid incentive programs? (3) Is REC participation associated with satisfaction and positive opinions about EHRs? (4) Is REC participation associated with use of assistance services? (5) Is REC participation associated with experiencing less difficulty in adoption of EHRs? (6) Is REC participation associated with being part of a care transformation program? There is no existing data source that can be used to answer these research questions.

Likely Respondents: The survey targets small primary care practices, and asks for the staff member most knowledgeable about electronic health record (EHR) adoption and utilization to answer the survey.

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this ICR are summarized in the table below.

Estimated Annualized Burden Hours
Type of respondent | Form name | Number of respondents | Number of responses per respondent | Average burden per response (in hours) | Total burden hours
Physicians | Form A Screener Administered on Paper | 1571 | 1 | 5/60 | 131
Nurses | Form A Screener Administered on Paper | 1571 | 1 | 5/60 | 131
Practice Managers | Form A Screener Administered on Paper | 1570 | 1 | 5/60 | 131
Physicians | Form B Survey Administered as a Computer-Assisted Telephone Interview | 475 | 1 | 30/60 | 238
Nurses | Form B Survey Administered as a Computer-Assisted Telephone Interview | 475 | 1 | 30/60 | 238
Practice Managers | Form B Survey Administered as a Computer-Assisted Telephone Interview | 475 | 1 | 30/60 | 238
Physicians | Form C Shortened Survey Administered on Paper | 119 | 1 | 10/60 | 20
Nurses | Form C Shortened Survey Administered on Paper | 119 | 1 | 10/60 | 20
Practice Managers | Form C Shortened Survey Administered on Paper | 118 | 1 | 10/60 | 20
Total |  |  |  |  | 1167

Darius Taylor,
Deputy, Information Collection Clearance Officer.

[FR Doc. 2013-30500 Filed 12-20-13; 8:45 am]

BILLING CODE 4150-45-P